DEPARTMENT OF COMMERCE

International Trade Administration

[A-201-857]

Certain Freight Rail Couplers and Parts Thereof From Mexico: Postponement of Preliminary Determination in the Less-Than-Fair-Value Investigation

AGENCY: Enforcement and Compliance, International Trade Administration, Department of Commerce.

DATES: Applicable February 16, 2023.

FOR FURTHER INFORMATION CONTACT: Jonathan Hall-Eastman or Samuel Brummitt, AD/CVD Operations, Office III, Enforcement and Compliance, International Trade Administration, U.S. Department of Commerce, 1401 Constitution Avenue NW, Washington, DC 20230; telephone: (202) 482-1468 or (202) 482-7851, respectively.

SUPPLEMENTARY INFORMATION:

Background

On October 18, 2022, the U.S. Department of Commerce (Commerce) initiated a less-than-fair-value (LTFV) investigation of imports of certain freight rail couplers and parts thereof (freight rail couplers) from Mexico.¹ Currently, the preliminary determination is due no later than March 7, 2023.

¹ See Certain Freight Rail Couplers and Parts Thereof from the People's Republic of China and Mexico: Initiation of Less-Than-Fair-Value Investigations, 87 FR 64444 October 25, 2022).

Postponement of Preliminary Determination

Section 733(b)(l)(A) of the Tariff Act of 1930, as amended (the Act) requires Commerce to issue the preliminary determination in a LTFV investigation within 140 days after the date on which Commerce initiated the investigation. However, if Commerce concludes that the parties concerned in the investigation are cooperating and determines that the investigation is extraordinarily complicated, sections 733(c)(1)(B)(i) and (ii) of the Act allow Commerce to postpone the preliminary determination until no later than 190 days after the date on which Commerce initiated the investigation.

Commerce has determined that the parties involved in the proceeding are cooperating and that the investigation is extraordinarily complicated.² Specifically, Commerce requires additional time to analyze the questionnaire responses and issue appropriate requests for clarification and additional information, particularly regarding the question of whether the respondent Amsted Rail Company, Inc. and its affiliate, ASF-K de Mexico S. de R.L. de C.V., have a viable home market. Therefore, in accordance with section 733(c)(1)(B) of the Act, Commerce is postponing the due date for the preliminary determination of this investigation by 50 days. As a result, Commerce will issue its preliminary determination no later than April 26, 2023. Pursuant to section 735(a)(l) of the Act and 19 CFR 351.210(b)(1), the deadline for the final determination will continue to be 75 days after the date of the preliminary determination, unless postponed at a later date.

² See section 733(c)(1)(B) of the Act.

This notice is issued and published pursuant to section 733(c)(2) of the Act and 19 CFR 351.205(f)(1).

Dated: February 10, 2023.
Lisa W. Wang,
Assistant Secretary for Enforcement and Compliance.

[FR Doc. 2023-03283 Filed 2-15-23; 8:45 am]

BILLING CODE 3510-DS-P